DEPARTMENT OF COMMERCE

Patent and Trademark Office

Agency Information Collection Activities; Submission to the Office of Management and Budget (OMB) for Review and Approval; Comment Request; Trademark Petitions

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on July 10, 2024 during a 60-day comment period (89 FR 56739). This notice allows for an additional 30 days for public comment.

Agency: United States Patent and Trademark Office, Department of Commerce.

Title: Trademark Petitions.

OMB Control Number: 0651-0061.

Needs and Uses: The United States Patent and Trademark Office (USPTO) administers the Trademark Act (Act), 15 U.S.C. 1051 et seq., which provides for the registration of trademarks, service marks, collective membership marks, and certification marks. Individuals and businesses that use or intend to use such marks in commerce may file an application to register their marks with the USPTO.

This information collection covers various trademark-related communications to the USPTO, including letters of protest, requests to make special, responses to petition inquiry letters, petitions to make special, requests to restore a filing date, and requests for reinstatement. This information collection also incorporates petitions for ex parte expungement or reexamination (PTO-2312). Ex parte expungement and reexamination proceedings were established by the Trademark Modernization Act of 2020 (TMA), Public Law 116-260 (Dec. 27, 2020), to cancel, either in whole or in part, registered marks for which the required use in commerce was not made. The burden estimate for petitions for ex parte expungement or reexamination was previously contained in OMB Control No. 0651-0086, Changes to Implement Provisions of the Trademark Modernization Act, but is being transferred into this information collection for efficiency. Finally, this information collection consolidates into a single burden estimate the burden for responses to petition inquiry letters (PTO-2305), which was previously reflected in both OMB Control No. 0651-0086 and this information collection.

The information covered in this collection is used by the public for a variety of private business purposes related to establishing and enforcing trademark rights. Information relating to the registration of a trademark is made available to the public by the USPTO. However, the release of information in a letter of protest is controlled and may be available only upon request.

Forms:

• PTO-2303 (Letter of Protest)

• PTO-2304 (Request to Make Special)

• PTO-2305 (Response to Petition to Director Inquiry Letter)

• PTO-2306 (Petition to Make Special)

• PTO-2307 (Request to Restore Filing Date)

• PTO-2308 (Request for Reinstatement)

• PTO-2312 (Petition for Expungement or Reexamination Form)

Type of Review: Extension and revision of a currently approved information collection.

Affected Public: Private sector.

Respondent's Obligation: Required to obtain or retain benefits.

Frequency: On occasion.

Estimated Number of Annual Respondents: 5,813 respondents.

Estimated Number of Annual Responses: 5,813 responses.

Estimated Time per Response: The USPTO estimates that the responses in this information collection will take the public approximately between 40 minutes (0.67 hours) and 4.5 hours to complete. This includes the time to gather the necessary information, create the document, and submit the completed request to the USPTO.

Estimated Total Annual Respondent Burden Hours: 7,893 hours.

Estimated Total Annual Respondent Non-hourly Cost Burden: $313,260.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0061.

Further information can be obtained by:

• Email: InformationCollection@uspto.gov. Include “0651-0061 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2024-20963 Filed 9-13-24; 8:45 am]

BILLING CODE 3510-16-P